DEPARTMENT OF HOMELAND SECURITY

Coast Guard

33 CFR Part 117

[Docket No. USCG-2011-1034]

Drawbridge Operation Regulations; Saugus River, Lynn and Revere, MA

AGENCY: Coast Guard, DHS.

ACTION: Notice of temporary deviation from regulations.

SUMMARY: The Commander, First Coast Guard District, has issued a temporary deviation from the regulation governing the operation of the General Edwards Bridge at mile 1.7, across the Saugus River between Lynn and Revere, Massachusetts. The deviation is necessary to facilitate scheduled bridge rehabilitation. This deviation allows the bridge to open upon a 48 hour advance notice during the rehabilitation period.

DATES: This deviation is effective from November 21, 2011 through April 24, 2012.

ADDRESSES: Documents mentioned in this preamble as being available in the docket are part of docket USCG-2011-1034 and are available online at http://www.regulations.gov, inserting USCG-2011-1034 in the “Keyword” and then clicking “Search”. They are also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or email Mr. John W. McDonald, Project Officer, First Coast Guard District, john.w.mcdonald@uscg.mil, or telephone (617) 223-8364. If you have questions on viewing the docket, call Renee V. Wright, Program Manager, Docket Operations, telephone (202) 366-9826.

SUPPLEMENTARY INFORMATION:

The General Edwards Bridge, across the Saugus River at mile 1.7 between Lynn and Revere, Massachusetts, has a vertical clearance in the closed position of 27 feet at mean high water and 36 feet at mean low water. The drawbridge operation regulations are listed at 33 CFR 117.618(b).

The waterway users are recreational vessels of various sizes. The bridge opened only 9 times between November and April since 2002 and there were no openings between November and April in 2010. During the winter months the bridge rarely opens since the recreational vessels that transit this waterway are normally in winter storage.

The owner of the bridge, Massachusetts Department of Transportation, requested a temporary deviation from the regulations to help facilitate rehabilitation at the bridge.

Under this temporary deviation the General Edwards Bridge shall operate as follows: From November 21, 2011 through April 24, 2012, the draw shall open after at least a 48 hour advance notice is given by calling the Massachusetts DOT Highway Operations Center at 1-(800) 227-0608. Vessels that can pass under the bridge in the closed position may do so at any time.

The Coast Guard believes that this temporary deviation should meet the reasonable needs of navigation because the mariners that normally use this bridge are recreational vessels that do not operate during the winter months when this deviation will be in effect.

In accordance with 33 CFR 117.35(e), the bridge must return to its regular operating schedule immediately at the end of the designated time period. This deviation from the operating regulations is authorized under 33 CFR 117.35.

Dated: November 16, 2011.
Gary Kassof,
Bridge Program Manager, First Coast Guard District.

[FR Doc. 2011-30720 Filed 11-28-11; 8:45 am]

BILLING CODE 9110-04-P